INTERNATIONAL TRADE COMMISSION

[Investigation No. 337-TA-1097]

Certain Solid State Storage Drives, Stacked Electronics Components, And Products Containing Same Commission Determination Not To Review an Initial Determination Granting a Joint Motion To Terminate the Investigation With Respect to Certain Respondents; Termination of the Investigation In Its Entirety

AGENCY: U.S. International Trade Commission.

ACTION: Notice.

SUMMARY: Notice is hereby given that the U.S. International Trade Commission has determined not to review an initial determination (“ID”) (Order No. 47) of the presiding administrative law judge (“ALJ”), granting a joint motion to terminate the investigation as to respondents SK hynix Inc.; SK hynix America, Inc.; Dell Inc.; Dell Technologies Inc.; HP Inc.; Hewlett Packard Enterprise Co.; ASUSTeK Computer Inc.; ASUS Computer International; Acer Inc.; Acer America Corp.; Lenovo Group Ltd.; and Lenovo (United States) Inc. The investigation is terminated in its entirety.

FOR FURTHER INFORMATION CONTACT: Cathy Chen, Esq., Office of the General Counsel, U.S. International Trade Commission, 500 E Street SW, Washington, DC 20436, telephone (202) 205-2392. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on January 26, 2018, based on a complaint filed by BiTMICRO, LLC (“BiTMICRO”) of Reston, Virginia. 83 FR 3771 (Jan. 26, 2018). The complaint, as amended, alleges violations of section 337 based upon the importation into the United States, the sale for importation, and the sale within the United States after importation of certain solid state storage drives, stacked electronics components, and products containing the same by reason of infringement of one or more of claims 1, 2, 11, and 12 of U.S. Patent No. 7,826,243; claims 1-20 of U.S. Patent No. 6,529,416; claims 1-101 of U.S. Patent No. 9,135,190; and claims 12 and 16 of U.S. Patent No. 8,093,103. Id. The complaint also alleges that an industry in the United States exists as required by 19 U.S.C. 1337(a)(2). Id. The notice of investigation named as respondents Samsung Electronics Co., Ltd. of Gyeonggi-do, Republic of Korea; Samsung Semiconductor, Inc. of San Jose, California; and Samsung Electronics America, Inc. of Ridgefield Park, New Jersey (collectively, “Samsung”); VAIO Corporation of Azumino, Japan (“VAIO”); Transcosmos America Inc. of Gardena, California (“transcosmos”); SK hynix Inc. of Gyeonggido, Republic of Korea; and SK hynix America Inc. of San Jose, California (collectively, “SK hynix); Dell Inc. of Round Rock, Texas; Dell Technologies Inc. of Round Rock, Texas; Lenovo Group Ltd. of Beijing, China; Lenovo (United States) Inc. of Morrisville, North Carolina; HP Inc. of Palo Alto, California; Hewlett Packard Enterprise Co. of Palo Alto, California; ASUSTeK Computer Inc. of Taipei, Taiwan; ASUS Computer International of Fremont, California; Acer Inc. of New Taipei City, Taiwan; and Acer America Corp. of San Jose, California (collectively, “Remaining Respondents”). Id. at 3772. The Office of Unfair Import Investigations (“OUII”) is also a party to the investigation. Id. Respondents Samsung, VAIO, and transcosmos were terminated from the investigation based on a settlement agreement. See Order No. 45 (Apr. 26, 2019), not reviewed by Comm'n Notice (May 15, 2019).

On January 30, 2019, Respondents filed a motion for summary determination with respect to the technical prong of the domestic industry requirement. BiTMICRO and OUII each filed a response opposing the motion. Thereafter, Respondents filed a reply brief.

On March 26, 2019, the ALJ issued Order No. 31 (Mar. 26, 2019), granting-in-part Respondents' motion for summary determination with respect to the technical prong of the domestic industry requirement. BiTMICRO filed a petition for review of Order No. 31. Respondents and OUII each filed a response to the petition.

On April 9, 2019, BiTMICRO, SK hynix, and the Remaining Respondents filed a joint motion to stay the procedural schedule by four weeks to allow time to finalize a settlement agreement. The next day the ALJ issued Order No. 44 (Apr. 10, 2019), granting the joint motion to stay. The stay was extended pursuant to Order No. 46 (May 9, 2019).

On May 17, 2019, BiTMICRO, SK hynix, and the Remaining Respondents filed a joint motion to terminate the investigation in its entirety based on a settlement agreement between BiTMICRO and SK hynix pursuant to 19 CFR 210.21(b). On May 23, 2019, OUII filed a response supporting the motion.

On May 28, 2019, the ALJ issued the subject ID granting the motion to terminate. Order No. 47 at 1 (May 28, 2019). The ALJ found that the motion complies with the Commission Rules, and that no public interest factors prohibit the termination of this investigation as to SK hynix and the Remaining Respondents, who are downstream customers of SK hynix. Id. at 2-3. The ALJ found that the settlement agreement appears to resolve the disputes between BiTMICRO, SK hynix, and the Remaining Respondents. Id. at 2. No petitions for review were filed.

The Commission has determined not to review the subject ID. The Commission's determination renders the ALJ's findings in Order No. 31 moot. The Commission has determined to review and take no position on Order No. 31. The investigation is terminated in its entirety.

The authority for the Commission's determination is contained in section 337 of the Tariff Act of 1930, as amended (19 U.S.C. 1337), and in Part 210 of the Commission's Rules of Practice and Procedure (19 CFR part 210).

By order of the Commission.
Dated: June 17, 2019.
Lisa Barton,
Secretary to the Commission.

[FR Doc. 2019-13121 Filed 6-19-19; 8:45 am]

BILLING CODE 7020-02-P